DEPARTMENT OF DEFENSE

Department of the Army

Notice of Intent To Grant a Partially Exclusive Patent License to videoNEXT Network Solutions, Inc.

AGENCY: Department of the Army, DoD.

ACTION: Notice of Intent.

SUMMARY: In compliance with 37 CFR 404 et seq., the Department of the Army hereby gives notice of its intent to grant to videoNEXT Network Solutions, Inc., a corporation having its principle place of business at 3852 Dulles South Court, Unit I, Chantilly, VA 20151, a partially exclusive license relative to U.S. Patent No. 7,460,689 B1, issued on Dec. 2, 2008 entitled, “System and Method of Detecting, Recognizing, and Tracking Moving Targets”; Inventor: Alex Lipchen Chan.

DATES: Anyone wishing to object to the grant of this license must file written objections along with supporting evidence, if any, not later than 15 days from the date of this notice.

ADDRESSES: Send written objections to Michael D. Rausa, U.S. Army Research Laboratory, Office of Research and Technology Applications, Attn: RDRL-DB/Bldg. 434, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 2011-10866 Filed 5-3-11; 8:45 am]

BILLING CODE 3710-08-P